NATIONAL SCIENCE FOUNDATION

Notice of Public Hearings and the Availability of a Draft Programmatic Environmental Impact Statement/Overseas Environmental Impact Statement (PEIS/OEIS)

AGENCY: National Science Foundation.

ACTION: Notice of public hearings and request for public comments on a Draft PEIS/OEIS for Marine Seismic Research Funded by the National Science Foundation (NSF) or Conducted by the U.S. Geological Survey (USGS).

SUMMARY: NSF gives notice of the availability of a Draft PEIS/OEIS (hereafter Draft PEIS) for marine seismic research funded by NSF or conducted by the USGS and requests public review and comment on the document. NSF also provides notice of public hearings on the Draft PEIS.

The Division of Ocean Sciences in the Directorate for Geosciences (GEO/OCE) has prepared the Draft PEIS as the lead agency with support from the cooperating agencies, USGS and the National Marine Fisheries Service (NMFS) of the National Oceanic and Atmospheric Administration (NOAA).

The Draft PEIS assesses the potential impacts of marine seismic research on the human and natural environment. Under the Proposed Action, a variety of acoustic sources used for research activities funded by NSF or conducted by the USGS would be operated from various research vessels operated by U.S. academic institutions or government agencies. The seismic acoustic sources would include various airgun configurations (particularly strings or arrays with as little as 2 to as many as 36 seismic airguns), as well as low-energy seismic and non-seismic acoustic sources.

The Draft PEIS examines the potential impacts that may result from geophysical exploration and scientific research using seismic surveys that are funded by NSF or conducted by the USGS in non-Arctic waters. The Proposed Action is for academic and U.S. government scientists in the U.S., and possible international collaborators, to conduct marine seismic research from research vessels operated by U.S. academic institutions and government agencies. The purpose of the Proposed Action is to fund the investigation of the geology and geophysics of the seafloor by collecting seismic reflection and refraction data that reveal the structure and stratigraphy of the crust and/or overlying sediment below the world's oceans. NSF has a continuing need to fund seismic surveys that enable scientists to collect data essential to understanding the complex Earth processes beneath the ocean floor.

Two action alternatives and the No-Action Alternative have been carried forward for analysis. The Draft PEIS is available for public review for a 45-day period. Comments must be submitted on or before November 22, 2010.

NSF will conduct two public hearings to receive oral and written comments on the Draft PEIS. Federal, state, and local agencies and interested individuals are invited to be present or represented at the public hearings. This notice announces the dates and locations of the public hearings for this Draft PEIS.

An open house session will precede the scheduled public hearing at each of the locations listed below and will allow individuals to review the information presented in the Draft PEIS. NSF and USGS representatives will be available during the open house sessions to clarify information related to the Draft PEIS.

Dates & Addresses: All hearings will start with an open house session, followed by a presentation, and then the formal oral public comment period. Public hearings will be held on the following dates and at the following locations:

• Monday, October 25, 2010, 5-7 p.m. at Scripps Institution of Oceanography, University California-San Diego, Vaughn Hall, Room 100, Discovery Way, La Jolla, CA.

• Wednesday, October 27, 2010, 5-7 p.m. at the National Science Foundation, 4201 Wilson Blvd., Room 110, Arlington, VA.

The Draft PEIS is available on NSF's Web site at: http://www.nsf.gov/geo/oce/envcomp/index.jsp. Electronic or printed copies of the Draft PEIS are also available upon request from: Holly Smith, National Science Foundation, Division of Ocean Sciences, 4201 Wilson Blvd., Suite 725, Arlington, VA 22230. Telephone: (703) 292-8583. E-mail: nepacomments@nsf.gov.

SUPPLEMENTARY INFORMATION: Currently, individual Environmental Assessments (EAs) are prepared for individual or small numbers of related cruises to assess the impact of the generated seismic survey noise on the marine environment. In the 7 years from 2003 through 2009, NSF prepared 31 EAs assessing the impact of sound from seismic surveys on marine resources and species listed under the Marine Mammal Protection Act (MMPA) and Endangered Species Act (ESA) during research projects investigating the geology and geophysics of the seafloor. These EAs were prepared for various worldwide, academic research cruises that required the use of various marine seismic sources involving different airgun configurations deployed from the primary U.S. academic seismic survey ship, or smaller airgun sources deployed from other research vessels, often with concurrent operations of non-seismic acoustic sources such as echosounders and bottom profilers.

For past seismic research cruise actions, an EA has been used as the basis for consultation with the NOAA Office of Protected Resources (OPR) under section 7(a)(2) of the ESA. For each of the research cruises, NOAA OPR issued a Biological Opinion (BO) and related Incidental Take Statements (ITSs), which included terms and conditions to reduce impacts on threatened and endangered species. In parallel with this effort, when applicable, a separate application for an Incidental Harassment Authorization (IHA) under Section 101(a)(5)(D) of the MMPA was submitted for each cruise to another division within NOAA OPR, which subsequently issued the IHA. The MMPA procedures for issuance of an IHA involve publication of a proposed IHA notice in the Federal Register and solicitation of comments on that notice.

To reduce this apparent duplication of effort in environmental documentation and to address the potential for cumulative effects of marine seismic research acoustic sources upon marine resources, NSF and the USGS have decided that a PEIS should be prepared. Preparing a PEIS for NSF and USGS marine seismic research serves several purposes. First, it provides a format for a comprehensive cumulative impacts analysis by taking a view of the planned marine seismic research activities as a whole. This is accomplished by assembling and analyzing the broadest range of direct, indirect, and cumulative impacts associated with all marine seismic research activities in addition to other past, present, and reasonably foreseeable projects in the region of influence. Furthermore, the collective analysis of representative project locations will provide a strong technical basis for a more global assessment of the potential cumulative impacts of NSF-funded and USGS marine seismic activities in the future.

A PEIS also sets up a framework for streamlining the preparation of subsequent environmental documents where needed for individual cruises. It is expected that time- and location-specific aspects, or similarly detailed technical information if necessary to evaluate unique impacts of specific cruises and projects, will be addressed in EIS supplements, tiered EAs, or other appropriate environmental documentation that would follow the publication of this Draft PEIS. Thus, while NSF-funded and USGS marine seismic research is reviewed under this Draft PEIS, the analysis of site-specific impacts from future cruises may be reserved for future analysis. Tiering of environmental documents in this manner makes subsequent documents of greater use and meaning to the public as NSF's and USGS's marine seismic research develops, without duplicating previous paperwork and environmental analyses. Finally, a PEIS enables the identification of an appropriate and prudent set of standard mitigation measures to be integrated into future NSF-funded and USGS cruises, which is a key goal of NSF and USGS.

Federal, state, local agencies, Native American Tribes and Nations, and interested parties are invited to be present or represented at the public hearings. Written comments can also be submitted anytime during the public hearings or during the 45-day public review period of the Draft PEIS. Comments must be submitted on or before November 22, 2010.

Oral statements will be heard and transcribed by a stenographer; however, to ensure the accuracy of the record, all statements should be submitted in writing. All statements, both oral and written, will become part of the public record on the Draft PEIS and will be responded to in the Final PEIS. Equal weight will be given to both oral and written statements. In the interest of time, and to ensure all who wish to give an oral statement have the opportunity to do so, each speaker's comments will be limited to three (3) minutes. If a long statement is to be presented, it should be summarized at the public hearing with the full text submitted either in writing at the hearing or mailed to: Holly Smith, National Science Foundation, Division of Ocean Sciences, Room 725, 4201 Wilson Blvd., Arlington, VA 22230. In addition, comments may be submitted via e-mail at: nepacomments@nsf.gov. All written comments must be postmarked by November 22, 2010 to ensure they become part of the official record.

FOR FURTHER INFORMATION CONTACT: For further information regarding the Draft PEIS contact: Holly Smith, National Science Foundation, Division of Ocean Sciences, 4201 Wilson Blvd., Suite 725, Arlington, VA 22230; telephone: (703) 292-8583; e-mail: nepacomments@nsf.gov.

Dated: October 5, 2010.
Suzanne H. Plimpton,
Reports Clearance Officer, National Science Foundation.

[FR Doc. 2010-25378 Filed 10-7-10; 8:45 am]

BILLING CODE 7555-01-P